DEPARTMENT OF AGRICULTURE

Animal and Plant Health Inspection Service

[Docket No. 00-008-1]

Public Meetings; Imported Fire Ant

AGENCY: Animal and Plant Health Inspection Service, USDA.

ACTION: Notice of public meetings and request for comments.

SUMMARY: The Animal and Plant Health Inspection Service plans to hold four public meetings to discuss issues related to how we should administer our imported fire ant program in light of reduced funding.

DATES: We invite you to comment on this docket. We will consider all comments that we receive by May 1, 2000.

The public meetings will be held in: (1) Raleigh, NC, on March 21, 2000; (2) Orlando, FL, on March 23, 2000; (3) Austin, TX, on March 28, 2000; and (4) Santa Ana, CA, on March 30, 2000. Each public meeting will begin at 9 a.m. and is scheduled to end at 5 p.m.

ADDRESSES: If you cannot attend a public meeting, please send your written comment and three copies to: Docket No. 00-008-1, Regulatory Analysis and Development, PPD, APHIS, Suite 3C03, 4700 River Road, Unit 118, Riverdale, MD 20737-1238.

Please state that your comment refers to Docket No. 00-008-1.

You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

The public meetings will be held at the following locations:

(1) Raleigh, NC: Wake County Commons Buildings, 4011 Carya Drive, Raleigh, NC.

(2) Orlando, FL: Radisson Barcelo Hotel, 8444 International Drive, Orlando, FL.

(3) Austin, TX: Clements Building, Committee Room 5, 15th and Lavaca Streets, Austin, TX.

(4) Santa Ana, CA: Hall of Administration, Board of Supervisors Ante Room—First Floor, 10 Civic Center Plaza, Santa Ana, CA.

FOR FURTHER INFORMATION CONTACT: Ron Milberg, Operations Officer, PPQ, APHIS, 4700 River Road Unit 134, Riverdale, MD 20737-1236; (301) 734-5255.

SUPPLEMENTARY INFORMATION: The Animal and Plant Health Inspection Service (APHIS) plans to hold four public meetings to discuss how we should administer our imported fire ant program in light of reduced funding.

Our imported fire ant program is based on our imported fire ant regulations (7 CFR 301.81-1 through 301.81-10, referred to below as the regulations). The regulations govern the interstate movement of regulated articles from areas quarantined because of imported fire ant. Section 301.81-2 of the regulations provides a list of articles regulated because of imported fire ant. Regulated articles are imported fire ant queens and reproducing colonies of imported fire ants, soil (except potting soil shipped in its original container), baled hay or straw stored in direct contact with the ground, nursery stock (except plants maintained indoors in a home or office environment and not for sale), used soil-moving equipment, and any other article determined to present a risk of spreading imported fire ant. Section 301.81-3 of the regulations lists areas quarantined because of imported fire ant. Quarantined areas are all or portions of the following States and territories: Alabama, Arkansas, California, Florida, Georgia, Louisiana, Mississippi, New Mexico, North Carolina, Oklahoma, Puerto Rico, South Carolina, Tennessee, and Texas. Sections 301.81-4 through 301.81-10 provide requirements for moving regulated articles interstate from quarantined areas to nonquarantined areas. These sections include requirements for certificates and limited permits and for treatment of regulated articles.

For fiscal year (FY) 2000, Congress gave APHIS $100,000 to cover the costs of administering the imported fire ant program and directed APHIS to use $58,000 of that amount to administer the program in New Mexico. Although $100,000 is considerably less than the amount allotted to the program for FY 1999, this amount is actually more than APHIS requested. For several years, APHIS has sought to eliminate its imported fire ant control activities because no economical, environmentally acceptable control agents specific to imported fire ant are available for large-scale application on agricultural land. Also, APHIS has not received any requests from States for cooperative treatment programs since 1985. In past years, APHIS has provided States with technical knowledge, treatment guidelines, and regulatory guidelines to help control imported fire ant populations; the States have conducted regulatory and survey activities. Through this arrangement, States have maintained a strong regulatory program and have even eradicated small, isolated infestations outside quarantined areas.

In support of these efforts to control imported fire ant, APHIS successfully tested the insecticide fipronil in FY 1998. Fipronil would be used to treat nursery stock and grass sod moving interstate from quarantined areas. The U.S. Environmental Protection Agency (EPA) is currently reviewing this insecticide; it may be registered by the EPA for use in the spring of 2001. APHIS plans to continue to evaluate the efficacy of new regulatory treatments for imported fire ant under its plant methods development laboratories? budget line item.

The public meetings will provide an opportunity for interested persons to comment on whether APHIS should continue to administer the imported fire ant program in accordance with the regulations (and if so, how we should manage the program in light of current funding) or if we should pursue another course of action. Please note, however, that while the information gathered during the meetings may indicate the need for changes to our current regulatory program, the meetings will not directly result in any changes to the regulations. If we determine that changes to the regulations are appropriate, we will propose those changes in the Federal Register.

Issues

We have identified three potential courses of action with respect to the imported fire ant program. They are:

(1) Maintain our imported fire ant program with minimal Federal regulatory activity, in line with current funding.

This option would, through APHIS regulations, continue to provide uniform standards for the regulated industry and consistent interstate shipping requirements. Under this option, States would continue to enforce the Federal quarantine without Federal funding. When alerted by States, APHIS personnel would continue to investigate noncompliance with the regulations and examine the origin and pathway of introduction of imported fire ants found on regulated articles.

(2) Eliminate the imported fire ant regulations (i.e., rescind the Federal quarantine) and develop model guidelines for States to use in harmonizing their quarantines.

This option would reduce Federal resource requirements and may provide uniformity without Federal regulation. However, in the absence of Federal regulations, States may independently impose more or less stringent requirements for the entry of currently regulated articles. Requirements could differ from State to State.

(3) Eliminate the imported fire ant regulations (i.e., rescind the Federal quarantine) and establish a voluntary nursery self-certification program.

This option would also reduce Federal resource requirements and may provide uniformity without Federal regulation. However, a voluntary self-certification program is not a mandatory program and could, therefore, result in less than 100 percent participation by producers.

Comments on these, or any other options, are welcome during the public meetings.

Meeting Procedures/Registration

A representative of APHIS will preside at each public meeting. Any interested person may appear and be heard in person, by attorney, or by another representative. Written statements may be submitted and will be made part of the meeting record. Persons who wish to speak at a meeting will be asked to provide their names and organizations. We ask that anyone who reads a statement or submits a written statement provide two copies to the presiding officer at the meeting.

Registration for each public meeting will take place from 8:30 a.m. to 9 a.m. on the day of the meeting at the meeting room. Each public meeting will begin at 9 a.m. and is scheduled to end at 5 p.m., local time. However, any meeting may end at any time after it begins if all persons desiring to speak have been heard. If the number of speakers at a meeting warrants it, the presiding officer may limit the time for presentations so that everyone wishing to speak has the opportunity.

Written Comments

If you cannot attend a public meeting, you may submit written comments on the issues raised in this notice. To submit written comments, please follow the instructions listed under the heading ADDRESSES near the beginning of this document.

Done in Washington, DC, this 24th day of February 2000.
Bobby R. Acord,
Acting Administrator, Animal and Plant Health Inspection Service.

[FR Doc. 00-5053 Filed 3-1-00; 8:45 am]

BILLING CODE 3410-34-U